DEPARTMENT OF DEFENSE

Department of the Army, Corps of Engineers

33 CFR Part 328

ENVIRONMENTAL PROTECTION AGENCY

40 CFR Part 120

[FRL-6027.4-05-OW]

Deadline Extension for Regional Roundtable Discussions Regarding “Waters of the United States”

AGENCY: Department of the Army, Corps of Engineers, Department of Defense; and Environmental Protection Agency (EPA).

ACTION: Notice of events; extension of deadline request for nominations.

SUMMARY: On October 13, 2021, the U.S. Environmental Protection Agency (EPA) and the U.S. Department of the Army (hereafter, “the agencies”) signed a Federal Register publication and publicly announced a process for stakeholders to submit nomination letters with a slate of participants to potentially be selected as one of ten geographically focused roundtables to provide input on the regional implications of “waters of the United States” (WOTUS) under the Clean Water Act. The intent for each regional roundtable is to engage individuals representing diverse perspectives in meaningful dialogue on the definition of “waters of the United States.” This Federal Register document was published on October 25, 2021. In response to robust interest in these roundtables, the agencies are extending the deadline for nominations to be submitted to 11:59 p.m. Eastern Standard Time on December 1, 2021. In addition, the agencies are providing certain clarifications regarding the nomination process.

DATES: Nomination letters for the roundtables must be received on or before 11:59 p.m. Eastern Standard Time on December 1, 2021. As a result of the deadline extension, EPA anticipates roundtables will be held in early 2022. Specific dates will be coordinated with selected nominees based on availability. Please refer to the SUPPLEMENTARY INFORMATION section for additional information.

FOR FURTHER INFORMATION CONTACT: Kate Balasa, Office of Water, Environmental Protection Agency, 1200 Pennsylvania Avenue NW, Washington, DC 20460; telephone number: (312) 886-6027; email address: WOTUS-outreach@epa.gov, or Stacey Jensen, Office of the Assistant Secretary of the Army for Civil Works, Department of the Army, 108 Army Pentagon, Washington, DC 20310-0104; telephone number: (703) 459-6026; email address: usarmy.pentagon.hqda-asa-cw.mbx.asa-cw-reporting@mail.mil.

SUPPLEMENTARY INFORMATION: In response to robust interest in and certain inquiries regarding the regional roundtables on “waters of the United States” announced on October 13, 2021, the agencies are extending the deadline for submitting nominations and providing clarifications.

The Federal Register publication published on October 25, 2021 (86 FR 58829) states: “On June 9, 2021, [the agencies] announced their intent to revise the definition of `waters of the United States' under the Clean Water Act through two rulemakings—first, a foundational rule that will propose to restore longstanding protections, and a second rulemaking process that builds on that regulatory foundation. . . . The agencies are seeking input on a durable definition of `waters of the United States' not limited to the scope of the regulatory processes announced on June 9, 2021.” The agencies offer the following clarification. During the regional roundtables, the agencies anticipate discussing issues related to “waters of the United States” that will be applicable to the agencies' second rulemaking. The regional roundtables will serve as one part of a robust pre-proposal outreach and engagement strategy—including but not limited to consultation and engagement with state and tribal co-regulators—to gain an understanding of the scope of potential issues to address in the second rulemaking.

The October 25, 2021 Federal Register document also states: “The agencies are inviting stakeholders to organize interested parties and regional participants that comprise up to 15 representatives for these roundtables.” The agencies offer the following clarification. The agencies are requesting that stakeholders or organizations nominate an entire group of no more than 15 people (including the organizer) who represent diverse perspectives. Individuals should not nominate themselves alone to the agencies.

The document also states: “Each nomination for a roundtable must include a proposed slate of participants representing perspectives of: Agriculture; conservation groups; developers; drinking water/wastewater management; environmental organizations; environmental justice communities; industry; and other key interests in that region.” The agencies offer the following clarification. The agencies will consider nominations that lack representation from one or more of the named stakeholder groups. However, the agencies will give more weight in the selection process to those nominations that include stakeholders representing a more robust and wider range of perspectives.

The Federal Register document also stated: “The agencies anticipate coordinating with elected officials that represent the location of selected roundtables.” The agencies offer the following clarification. The agencies' intent is to coordinate with relevant states, tribes, and Alaska Native Villages regarding potential participation in selected roundtables.

The Federal Register document further stated: “EPA cannot hold in-person public meetings at this time. The agencies will host these roundtables virtually. . . . The agencies also intend to livestream each roundtable to make them available for public viewing.” The agencies offer the following clarification. Information on how to access the livestream will be posted on the agencies' websites once the roundtable dates/times have been established.

Additionally, the Federal Register document did not include information on roundtable agenda, format, or logistics. The agencies would like to clarify that roundtables will be run by a facilitator and will be scheduled for no more than two and a half hours in duration.

Additionally, the agencies will coordinate with roundtable organizers on further implementation planning once roundtables are selected.

Jaime A. Pinkham,
Acting Assistant Secretary of the Army (Civil Works), Department of the Army.
Radhika Fox,
Assistant Administrator, Environmental Protection Agency.

[FR Doc. 2021-24317 Filed 11-5-21; 8:45 am]

BILLING CODE 6560-50-P